NUCLEAR REGULATORY COMMISSION

[Docket No. 50-244]

R.E. Ginna Nuclear Power Plant, LLC; R.E. Ginna Nuclear Power Plant; Notice of Issuance of Amendment to Facility Operating License

The U.S. Nuclear Regulatory Commission (Commission) has issued Amendment No. 97 to Renewed Facility Operating License No. DPR-18, issued to R.E. Ginna Nuclear Power Plant, LLC (the licensee), which revised the License and Technical Specifications for operation of the R.E. Ginna Nuclear Power Plant located in Wayne County, New York. The amendment is effective as of the date of issuance.

The amendment modified the License and Technical Specifications to authorize an increase in the licensed rated thermal power by 16.8 percent from 1520 megawatts thermal (MWt) to 1775 MWt. This level of power increase is considered an extended power uprate.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on September 22, 2005 (70 FR 55633). No request for a hearing or petition for leave to intervene was filed following this notice.

The Commission has prepared an Environmental Assessment related to the action and has determined not to prepare an environmental impact statement. Based upon the environmental assessment, the Commission has concluded that the issuance of the amendment will not have a significant effect on the quality of the human environment (71 FR 37614).

For further details with respect to the action, see (1) the application for amendment dated July 7, 2005, as supplemented by letters dated August 15, September 30, and December 6, 9, and 22, 2005, and January 11 and 25, February 16, March 3 and 24, and May 9 and 19, 2006, (2) Amendment No. 97 to License No. DPR-18, (3) the Commission's related Safety Evaluation, and (4) the Commission's Environmental Assessment. Documents may be examined, and/or copied for a fee, at the NRC's Public Document Room, located at One White Flint North, Public File Area O1 F21,11555 Rockville Pike (first floor), Rockville, Maryland. Publicly available records will be accessible electronically from the Agencywide Documents Access and Management Systems (ADAMS) Public Electronic Reading Room on the Internet at the NRC Web site, http://www.nrc.gov/reading-rm/adams.html. Persons who do not have access to ADAMS or who encounter problems in accessing the documents located in ADAMS should contact the NRC Public Document Room Reference staff by telephone at 1-800-397-4209, or 301-415-4737, or by e-mail to pdr@nrc.gov.

Dated at Rockville, Maryland, this 11th day of July 2006.
For the Nuclear Regulatory Commission.
Patrick D. Milano,
Senior Project Manager,Plant Licensing Branch I-1, Division of Operating Reactor Licensing,Office of Nuclear Reactor Regulation.

[FR Doc. E6-11320 Filed 7-17-06; 8:45 am]

BILLING CODE 7590-01-P